DEPARTMENT OF THE TREASURY

Senior Executive Service; Departmental Performance Review Board

AGENCY: Department of the Treasury.

ACTION: Notice of members of the Departmental Performance Review Board (PRB).

SUMMARY: Pursuant to 5 U.S.C. 4314(c)(4), this notice announces the appointment of members of the Departmental PRB. The purpose of this PRB is to review and make recommendations concerning proposed performance appraisals, ratings, bonuses and other appropriate personnel actions for incumbents of SES positions for which the Secretary or Deputy Secretary is the appointing authority. These positions include SES bureau heads, deputy bureau heads and certain other positions. The Board will perform PRB functions for other key bureau positions if requested.

Composition of Departmental PRB: The Board shall consist of at least three members. In the case of an appraisal of a career appointee, more than half the members shall consist of career appointees. The names and titles of the PRB members are as follows:

Teresa Mullet Ressel, Assistant Secretary for Management and Chief Financial Officer

Timothy D. Adams, Chief of Staff

Donald V. Hammond, Fiscal Assistant Secretary

Jeffrey F. Kupfer, Executive Secretary

Brian C. Roseboro, Assistant Secretary (Financial Markets)

W. Earl Wright, Jr., Deputy Assistant Secretary for Workforce Management

Juan C. Zarate, Deputy Assistant Secretary (Executive Office of Terrorist Financing and Financial Crimes)

Tony T. Brown, Director, CDFI Fund (Domestic Finance)

Rebecca A. Contreras, Deputy Assistant Secretary and Chief Human Capital Officer

John M. Duncan, Assistant Secretary (Legislative Affairs)

Reese H. Fuller, Advanced Counterfeit Deterrence Program Director (Domestic Finance)

Geraldine A. Gerardi, Director for Business Taxation

Pamela F. Olson, Assistant Secretary (Tax Policy)

Randal K. Quarles, Assistant Secretary (International Affairs)

Mary Beth Shaw, Director, Office of DC Pensions

Marla A. Freedman, Assistant Inspector General for Audit

William H. Pugh III, Deputy Assistant Inspector General for Audit (Financial Management)

Arthur J. Libertucci, Administrator, Tax and Trade Bureau

John J. Manfreda, Deputy Administrator, Tax and Trade Bureau

Henrietta H. Fore, Director, United States Mint

David A. Lebryk, Deputy Director, United States Mint

Jay M. Weinstein, Associate Director (Policy and Management)/Chief Financial Officer, United States Mint

Richard L. Gregg, Commissioner, Financial Management Service

Kenneth R. Papaj, Deputy Commissioner, Financial Management Service

Nancy Coto Fleetwood, Assistant Commissioner, Information Resources, Financial Management Service

Scott Johnson, Assistant Commissioner, Management (Chief Financial Officer), Financial Management Service

Kerry Lanham, Assistant Commissioner, Agency Services, Financial Management Service

Thomas A. Ferguson, Director, Bureau of Engraving and Printing

Carla F. Kidwell, Associate Director (Technology), Bureau of Engraving and Printing

William W. Wills, Associate Director (Chief Operating Officer), Bureau of Engraving and Printing

John M. Dalrymple, Deputy Commissioner for Operations Support, Internal Revenue Service

Deborah M. Nolan, Commissioner, Large and Mid-Sized Business Division, Internal Revenue Service

Evelyn A. Petschek, Commissioner, Tax Exempt and Government Entities Division, Internal Revenue Service

Toni L. Zimmerman, Chief, Information Technology Services, Modernization and Information Technology Services, Internal Revenue Service

Henry O. Lamar, Commissioner, Wage and Investment Division, Internal Revenue Service

Helen Bolton, Director, Management Services, Modernization and Information Technology Services, Internal Revenue Service

Cecil T. Hua, Director, Systems Engineering and Integration, Business Systems Modernization Office, Internal Revenue Service

Barbara A. Jenkins, Director, Data Management Modernization, Modernization and Information Technology Services, Internal Revenue Service

Frank Y. Ng, Director, Pre-Filing and Technical Guidance, Large and Mid-Sized Business Division, Internal Revenue Service

Kathy K. Petronchak, Deputy Director, Pre-Filing and Technical Guidance, Large and Mid-Sized Business Division, Internal Revenue Service

Renee Shaw, Deputy Director, Business Systems Development Division, Modernization and Information Technology Services, Internal Revenue Service

Estelle R. Tunley, Deputy Director, Submission Processing, Wage and Investment Division, Internal Revenue Service

Frederick Van Zeck, Commissioner, Bureau of the Public Debt

Anne M. Meister, Deputy Commissioner, Bureau of the Public Debt

George B. Wolfe, Deputy General Counsel

Roberta K. McInerney, Assistant General Counsel (Banking & Finance)

Kenneth R. Schmalzbach, Assistant General Counsel (General Law & Ethics)

Carol A. Campbell, Special Counsel to the National Taxpayer Advocate

Edward L. Patton, Supervisory General Attorney (Tax)

James F. Sloan, Director, Financial Crimes Enforcement Network

William F. Baity, Deputy Director, Financial Crimes Enforcement Network

DATES: Membership is effective on the date of this notice.

FOR FURTHER INFORMATION CONTACT: Roena B. Markley, Department of the Treasury, Acting Director, Workforce Solutions Division, 1750 Pennsylvania Avenue, NW., Suite 1200, Washington, DC 20220, Telephone: (202) 622-2962.

This notice does not meet the Department's criteria for significant regulations.

Dated: August 26, 2003.
Roena B. Markley,
Acting Director, Workforce Solutions Division.

[FR Doc. 03-22617 Filed 9-4-03; 8:45 am]

BILLING CODE 4811-16-M